FEDERAL COMMUNICATIONS COMMISSION

47 CFR Part 73

[DA 03-3648; MB Docket No. 03-238; RM-10820]

Radio Broadcasting Services; Lancaster and Pickerington, OH

AGENCY: Federal Communications Commission.

ACTION: Proposed rule.

SUMMARY: This document requests comment on a petition for rulemaking filed on behalf of Franklin Communications Inc., licensee of Station WJZA(FM), Lancaster, Ohio, requesting the reallotment of Channel 278A from Lancaster, Ohio, to Pickerington, Ohio, as the community's first local transmission service, and the modification of the license for Station WJZA(FM) to reflect the changes. Channel 278A can be reallotted at Pickerington at a site 8.8 kilometers (5.4 miles) northeast of the community at coordinates 39-56-39 NL and 82-41-14 WL.

DATES: Comments must be filed on or before January 15, 2004, and reply comments on or before January 30, 2004.

ADDRESSES: Secretary, Federal Communications Commission, Washington, DC 20554.

FOR FURTHER INFORMATION CONTACT: Victoria M. McCauley, Media Bureau, (202) 418-2180.

SUPPLEMENTARY INFORMATION: This is a synopsis of the Commission's Notice of Proposed Rule Making, MB Docket No. 03-238, adopted November 14, 2003, and released November 17, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Ohio, is amended by removing Channel 278A at Lancaster and adding Pickerington, Channel 278A.

Federal Communications Commission.
John A. Karousos,
Assistant Chief, Audio Division, Media Bureau.

[FR Doc. 03-29861 Filed 12-1-03; 8:45 am]

BILLING CODE 6712-01-P